ENVIRONMENTAL PROTECTION AGENCY

[FRL-8441-5]

Proposed Amendment to CERCLA Section 122(h) Administrative Agreement for the Lower Passaic River Study Area Portion of the Diamond Alkali Superfund Site, Located in and About Essex, Hudson, Bergen and Passaic Counties, NJ

AGENCY: Environmental Protection Agency.

ACTION: Notice of proposed administrative settlement and opportunity for public comment.

SUMMARY: The United States Environmental Protection Agency (EPA) is proposing to enter into an amendment to an administrative settlement that resolved certain claims under the Comprehensive Environmental Response, Compensation, and Liability Act of 1980, as amended (CERCLA) pursuant to Section 122(h) of CERCLA, 42 U.S.C 9622(h). In accordance with Section 122(i) of CERCLA, 42 U.S.C. 9622(i), this notice is being published to inform the public of the proposed amendment and of the opportunity to comment.

The amendment will incorporate twenty-nine (29) additional Settling Parties into Settlement Agreement, CERCLA Docket No. 02-2004-2011, binding the new Settling Parties to the terms and conditions of the Settlement Agreement, which became effective on June 22, 2004. As a result of this amendment, and a previous amendment, effective on November 9, 2005, the total number of Settling Parties under the Settlement Agreement will be seventy-one (71).

The new Settling Parties, and the previous Settling Parties, will be jointly and severally liable for the requirements of the Settlement Agreement, as amended, to pay up to $13,150,000 to fund EPA's performance of a remedial investigation and feasibility study (“RI/FS”) for the Lower Passaic River Study Area of the Diamond Alkali Superfund Site. Of this amount, $10,750,000 has already been paid; the amendment will make available up to $2,400,000 in additional contingent funding for those aspects of the RI/FS that EPA is performing. The Settling Parties have also recently entered into an administrative order on consent with EPA under which they will take over performance of most aspects of the RI/FS.

By entering into the amendment, the new Settling Parties will resolve their potential liability for Past Response Costs incurred in connection with the RI/FS (defined as those costs incurred through the effective date of the original Settlement Agreement, June 22, 2004, which total $2,829,802.62), as well as certain Future Response Costs incurred in connection with the RI/FS (those costs up to $13,150,000 that the Settling Parties have collectively committed to pay).

For thirty (30) days following the date of publication of this notice, EPA will receive written comments relating to the settlement. EPA will consider all comments received and may modify or withdraw its consent to the settlement if comments received disclose facts or considerations that indicate that the proposed settlement is inappropriate, improper or inadequate.

EPA's response to any comments received will be available for public inspection at EPA Region 2, 290 Broadway, 17th floor, New York, New York 10007-1866.

DATES: Comments must be submitted on or before August 20, 2007.

ADDRESSES: The proposed amendment is available on the internet at http://www.ourpassaic.org. Comments should reference the Lower Passaic River Study Area/Diamond Alkali Superfund Site, EPA Docket No. CERCLA-02-2004-2011, and should be addressed to the individual identified below.

FOR FURTHER INFORMATION CONTACT: Sarah Flanagan, Assistant Regional Counsel, New Jersey Superfund Branch, Office of Regional Counsel, U.S. Environmental Protection Agency, 17th Floor, 290 Broadway, New York, New York 10007-1866. Telephone: 212-637-3136.

Dated: June 18, 2007.
George Pavlou,
Division Director, Emergency and Remedial Response Division.

[FR Doc. E7-14004 Filed 7-19-07; 8:45 am]

BILLING CODE 6560-50-P